DEPARTMENT OF DEFENSE

Office of the Secretary

[Docket ID: DoD-2008-OS-0055]

Privacy Act of 1974; System of Records

AGENCY: National Reconnaissance Office, DoD.

ACTION: Notice; Add a System of Records.

SUMMARY: The National Reconnaissance Office (NRO) proposes to add a system of records to its inventory of system of records notice systems subject to the Privacy Act of 1974, (5 U.S.C. 552a), as amended.

DATES: This proposed action will be effective without further notice on June 18, 2008 unless comments are received, which result in a contrary determination.

ADDRESSES: Send comments to the FOIA/Privacy Official, National Reconnaissance Office, Information Access and Release, 14675 Lee Road, Chantilly, VA 20151-1715.

FOR FURTHER INFORMATION CONTACT: Contact the FOIA/NRO Privacy Official at (703) 227-9128.

SUPPLEMENTARY INFORMATION: The National Reconnaissance Office systems of records notices subject to the Privacy Act of 1974, (5 U.S.C. 552a), as amended, have been published in the Federal Register and are available from the address above.

The proposed system report, as required by 5 U.S.C. 552a(r) of the Privacy Act of 1974, as amended, was submitted on April 28, 2008, to the House Committee on Oversight and Government Reform, the Senate Committee on Governmental Affairs, and the Office of Management and Budget (OMB) pursuant to paragraph 4c of Appendix I, ‘Federal Agency Responsibilities for Maintaining Records About Individuals’, to OMB Circular No. A-130, dated February 8, 1996 (February 20, 1996, 61 FR 6427).

Dated: May 5, 2008.
Patricia L. Toppings,
OSD Federal Register Liaison Officer, Department of Defense.

QNRO-30

System name:

Technology Fellowship and Enrichment Programs and Events.

System location:

National Reconnaissance Office (NRO), Advanced Systems and Technology Directorate, 14675 Lee Road, Chantilly, VA 20151-1715.

Categories of individuals covered by the system:

Government civilian, military, contractors, and other invited participants (from industry and/or academia).

Categories of records in the system:

Technology Fellowship Program record categories include: Individual's name, Social Security Number (SSN), parent organization, work telephone number, NMIS e-mail address, abstracts, room numbers, documents, orders, career biographical information, educational background information, employee photograph, clearance level, Single Scope Background Investigation (SSBI) date, polygraph date, and briefing date.

Technology Seminars record categories include: Name (speaker), title, topic, organization address, Social Security Number (SSN), requests for information (organizations and addresses), abstracts, room numbers, documents, orders, career biographical information, educational background information, employee photograph, clearance level, Single Scope Background Investigation (SSBI) date, polygraph date and briefing date.

Authority for maintenance of the system:

5 U.S.C. 301 Departmental Regulations; National Security Act of 1947, as amended, 50 U.S.C. 401 et seq.; E.O. 12333; DoDD 5240.1, Intelligence Activities; and E.O. 9397 (SSN).

Purpose(s):

To maintain a historical database of Technology Fellowship Program participants, projects and seminars. To organize and inform, record and administer organizational enrichment programs and events. As a management tool, this system will track dates, requests for information, presentation arrangements, event details and speaker's career biographical information.

Routine uses of records maintained in the system, including categories of users and the purposes of such uses:

In addition to those disclosures generally permitted under 5 U.S.C. 552a(b) of the Privacy Act, these records or information contained therein may specifically be disclosed outside the NRO as a routine use pursuant to 5 U.S.C. 552a(b)(3) as follows:

The DoD ‘Blanket Routines Uses’ published at the beginning of the NRO compilation of systems of records notices apply to this system.

Policies and practices for storing, retrieving, accessing, retaining, and disposing of records in the system:

Storage:

Electronic storage media.

Retrievability:

Individual's name, company, parent organization, organizational affiliation, work telephone number, dates, speaker's name and topic and/or title.

Safeguards:

Records are stored in a secure, gated facility with guard. Facility requires a badge and computer terminal access is password protected. Access to and use of these records is limited to staff whose official duties require such access.

Privileged user records have restricted access.

Retention and disposal:

Earlier disposal is authorized if records are superseded, obsolete, or no longer needed. Hold files in current file area for 1 year before transferring to the Records Center. Cut off files at the end of the Calendar Year (CY).

System manager(s) and address:

The National Reconnaissance Office (NRO), Advanced Systems and Technology Directorate, 14675 Lee Road, Chantilly, VA 20151-1715.

Notification procedure:

Individuals seeking to determine whether this system of records contains information about themselves should address written inquiries to the National Reconnaissance Office, Information Access and Release Center, 14675 Lee Road, Chantilly, VA 20151-1715.

Requests should include full name and any aliases or nicknames, address, Social Security Number (SSN), current citizenship status, and date and place of birth, and other information identifiable from the record.

In addition, the requester must provide a notarized statement or an unsworn declaration in accordance with 28 U.S.C. 1746, in the following format:

If executed outside the United States: I declare (or certify, verify, or state) under penalty of perjury under the laws of the United States of America that the foregoing is true and correct. Executed on (date). (Signature).

If executed within the United States, its territories, possessions, or commonwealths: I declare (or certify, verify, or state) under penalty of perjury that the foregoing is true and correct. Executed on (date). (Signature).

Record access procedures:

Individuals seeking to access information about themselves contained in this system should address written inquiries to the National Reconnaissance Office, Information Access and Release Center, 14675 Lee Road, Chantilly, VA 20151-1715.

Requests should include full name and any aliases or nicknames, address, Social Security Number (SSN), current citizenship status, and date and place of birth, and other information identifiable from the record.

In addition, the requester must provide a notarized statement or an unsworn declaration in accordance with 28 U.S.C. 1746, in the following format:

If executed outside the United States: I declare (or certify, verify, or state) under penalty of perjury under the laws of the United States of America that the foregoing is true and correct. Executed on (date). (Signature).

If executed within the United States, its territories, possessions, or commonwealths: I declare (or certify, verify, or state) under penalty of perjury that the foregoing is true and correct. Executed on (date). (Signature).

Contesting record procedures:

The NRO rules for accessing records, for contesting contents and appealing initial agency determinations are published in NRO Directive 110-3b and NRO Instruction 110-3-1; 32 CFR part 326; or may be obtained from the Privacy Act Coordinator, National Reconnaissance Office, 14675 Lee Road, Chantilly, VA 20151-1715.

Record source categories:

From the individual, documents, or from persons other than the individual.

Exemptions claimed for the system:

Information specifically authorized to be classified under Executive Order 12958, as implemented by DoD 5200.1-R, may be exempt pursuant to 5 U.S.C. 552a(k)(1).

An exemption rule for this exemption has been promulgated in accordance with requirements of 5 U.S.C. 553(b)(1), (2), and (3), (c) and (e) and published in 32 CFR part 326. For additional information contact the system manager.

[FR Doc. E8-11125 Filed 5-16-08; 8:45 am]

BILLING CODE 5001-06-P